GENERAL SERVICES ADMINISTRATION

Office of Governmentwide Policy; Cancellation of an Optional Form by the Department of State

AGENCY: General Services Administration.

ACTION: Notice.

SUMMARY: The Department of State has cancelled the following Optional Form because of low demand in the Federal Supply Service: OF 194, Refusal Worksheet.

FOR FURTHER INFORMATION CONTACT: Mr. Charles Cunningham, Department of State, 202-312-9605.

DATES: Effective May 24, 2005.

Dated: May 16, 2005.
Barbara M. Williams,
Standard and Optional Forms Management Officer, General Services Administration.

[FR Doc. 05-10335 Filed 5-23-05; 8:45 am]

BILLING CODE 6820-34-M